DEPARTMENT OF HEALTH AND HUMAN SERVICES

Communicable Diseases Advisory Council; Establishment

AGENCY: Department of Health and Human Services.

ACTION: Notice of establishment of advisory council.

SUMMARY: The Secretary of Health and Human Services has established the Communicable Diseases Advisory Council (CDAC) to provide advice on communicable diseases, regulations, and related matters, formerly provided by the National Advisory Health Council (NAHC) for control of communicable diseases pursuant to section 361 of the Public Health Service (PHS) Act. The members of the CDAC are the Assistant Secretary for Health, the Surgeon General of the Public Health Service, the Director of the National Institutes of Health, the Director of the Centers for Disease Control and Prevention, the Commissioner of Food and Drugs, the Director of the National Institute of Allergy and Infectious Diseases, and the Director of the National Center for Infectious Diseases. The CDAC is chaired by the Assistant Secretary for Health. Section 361 of the PHS Act (42 U.S.C. 264) requires certain advisory functions related to control of communicable diseases to be performed by the NAHC. The NAHC was terminated by section 3(a)(1) of Pub. L. 99-158 (99 Stat. 878). Section 222 of the PHS Act (42 U.S.C. 217a) authorizes the appointment of such advisory councils as the Secretary deems appropriate, and Reorganization Plan No. 3 of 1966 transferred all functions of the Surgeon General of the Public Health Service to the Secretary.

FOR FURTHER INFORMATION CONTACT: Direct questions concerning this Advisory Council to LaVerne Burton, Executive Secretary. Ms. Burton can be reached by mail at 200 Independence Ave., SW, Washington, DC 20201, or by phone at 202-690-5627.

Dated: June 27, 2000.
Donna E. Shalala,
Secretary.

The Secretary of Health and Human Services

Washington, DC 20201

Communicable Diseases Advisory Council

A Communicable Diseases Advisory Council (the Council) is hereby established to provide advice on communicable diseases, regulations, and related matters, formerly provided by the National Advisory Health Council for control of communicable diseases pursuant to Section 361 of the Public Health Service Act (PHS Act).

The members of the Council are the Assistant Secretary for Health, the Surgeon General of the Public Health Service, the Director of the National Institutes of Health, the Director of the Centers for Disease Control and Prevention, the Commissioner of Food and Drugs, the Director of the National Institute of Allergy and Infectious Diseases and the Director of the National Center for Infectious Diseases.

The Council shall be chaired by the Assistant Secretary for Health, who shall convene the Council as necessary and who shall be responsible for rendering any advice or reports required of the Council.

Authority: Section 361 of the PHS Act [42 U.S.C. 264] requires certain advisory functions related to control of communicable diseases to be performed by the National Advisory Health Council (NAHC). The NAHC was terminated by Section 3(a)(1) of PL 99-158 (99 Stat. 878). Section 222 of the PHS Act (42 U.S.C. 217a) authorizes the appointment of such advisory councils as the Secretary deems appropriate, and Reorganization Plan No. 3 of 1966 transferred all functions of the Surgeon General of the Public Health Service to the Secretary.

Donna E. Shalala,
Secretary.

[FR Doc. 00-16654 Filed 6-29-00; 8:45 am]

BILLING CODE 4510-26-M